DEPARTMENT OF THE INTERIOR

Bureau of Land Management

[AZ-200-07-5320-PH-1000-241A]

Notice of Temporary Route Closure, Sonoran Desert National Monument, AZ

AGENCY: Bureau of Land Management, Interior.

SUMMARY: Notice is hereby given that the Bureau of Land Management (BLM) intends to temporarily close 88 miles of un-maintained, dirt-surfaced vehicle routes in the Sonoran Desert National Monument (SDNM), and one mile on the adjacent public lands managed by the Lower Sonoran Field Office to all travel by motor vehicles. A map of this closure area, documentation of categorical exclusion of this action from further review under provisions of the National Environmental Policy Act (NEPA), and the administrative decision can be viewed online at http://www.blm.gov/az/sonoran/sondes_main.htm.

DATES: The closure will be in effect beginning thirty (30) calendar days from publication of this notice and will remain in effect until off-highway-vehicle (OHV) damage to the natural and cultural resources of SDNM has been restored to the extent possible and when adequate measures have been implemented to prevent recurrence of such damage. A staged re-opening of the vehicle routes is expected to begin with in two to three years from the time that the temporary route closure goes into effect, depending on the availability of resources to complete the restoration and management actions.

FOR FURTHER INFORMATION CONTACT: Manager, Sonoran Desert National Monument, Bureau of Land Management, Phoenix District, 21065 North 7th Avenue, Phoenix, Arizona 85027; 623-580-5500.

SUPPLEMENTARY INFORMATION: Since its establishment, certain parts of SDNM have experienced increased visitation from growing adjacent communities, which in turn has increased the public awareness and popularity of these areas for OHV use. Motorized vehicle use off-road has led to visible and persistent damage to the soils and vegetation of lands adjacent to primary access routes, to degradation of the natural and cultural resource objects for which the monument was designated—including a portion of the Juan Bautista de Anza National Historic Trail—and to degradation of the scenic values of the monument. The temporary route closure will prevent further damage to the natural resources of SDNM by unauthorized and illegal OHV use. The BLM is currently in the process of developing a management plan for restoring damaged areas and managing future use of this area. Development of the plan will include public involvement and will be completed in summer 2008. The restoration and management plan could identify specific actions to include visitor entry/information points, site, road, and information signing, camping and staging site delineation, and road repair. During the period of closure, primary access routes will be restored and adjacent areas of OHV damage—including vehicle tracks, barren cores areas, and other areas of human disturbance—will be reclaimed to the extent possible by hand raking, vertical mulching, harrowing, and seeding (native plants only). Further, the temporary closure of these routes will assure that the reclamation work will not be damaged or outpaced by ongoing improper OHV use and will provide for the health and safety of BLM staff and volunteers engaged in this work by reducing exposure to the high volumes of dust generated by the passage of vehicles. In evaluating when to re-open areas or routes within the temporary closure area, we will consider the following factors: (a) Physical rehabilitation of the damaged areas is substantially completed (rehabilitation is the physical obliteration of vehicle damage, and includes vertical mulching, such that vehicle tracks are not visible to be driven on and the area is prepared for natural re-vegetation. Physical rehabilitation does not include vegetation restoration and recovery, which will occur over a much longer time period); (b) The major components of the management plan for that area or route have been implemented to effect a change in user behavior and ensure the resource damage does not re-occur; (c) The practicality of re-opening an area or route(s) while maintaining the temporary closure where the rehabilitation and management actions are not yet completed. Prior to and during the closure, primary vehicle access points will be blocked to use by vehicles with wire fencing and will be posted with signs and public information displays advising of the purpose of the closure and of the reclamation project. All other vehicle access points will be prominently posted with a closure order and map.

The closure will restrict public access to portions of T. 3 S., R. 1 W., section 30; T. 3 S., R. 2 W., sections 9-11, 13-15, 24-26, 35, and 36; T. 4 S., R. 1 W., sections 2, 3, 10-12, 13-15, 19-24, 26-28, 34, and 35; T. 4 S., R. 2 W., sections 2, 10, 11, 15, 16, 22-24, 25-29, 31-33, and 35; T. 4 S., R. 3 W., section 34; T. 5 S., R. 2 W., sections 2, 3, 6, 7, 11, and 12; and T. 5 S., R. 3 W., sections 1-4, 9-15, and 23 (Gila and Salt River Meridian). A map of this closure area, documentation of categorical exclusion of this action from further review under provisions of the National Environmental Policy Act (NEPA), and the administrative decision can be viewed online at http://www.blm.gov/az/sonoran/sondes_main.htm. These materials are also available at the BLM Phoenix District Office. The following persons, operating within the scope of their official duties, are exempt from the provisions of this closure: employees of BLM, Arizona Game and Fish Department, and local and Federal law enforcement and fire protection personnel. Access by additional parties may be allowed, but must be approved in advance in writing by the authorized manager.

This closure is in accordance with the provisions of Presidential Proclamation 7397, 66 FR 7354 (Jan. 22, 2001); 43 CFR 8341.2(a); and 43 CFR 8364.1. On all public lands, under section 303(a) of the Federal Land Policy and Management Act of 1976 (FLPMA), 43 U.S.C. 1733(a), 43 CFR 8360.0-7, any person who violates any closures or restrictions on public lands as announced in this order may be tried before a United States Magistrate and fined no more than $1000.00 or imprisoned for not more than 12 months, or both. Such violations may also be subject to enhanced fines provided for by 18 U.S.C. 3571 (not to exceed $100,000.00 and/or imprisonment not to exceed 12 months).

Authority: 43 CFR 8364.1.

Karen Kelleher,
Lower Sonoran Field Office Manager.

[FR Doc. E8-10814 Filed 5-13-08; 8:45 am]

BILLING CODE 4310-32-P